DEPARTMENT OF ENERGY

Federal Energy Regulatory Commission

[Docket No. EL06-68-000]

North Star Steel Company; Complainant v. Arizona Public Service Company; California Independent System Operator Corporation; Enron Power Marketing, Inc.; Nevada Power Company; PacifiCorp; Powerex Corp.; Public Service Company of New Mexico; Tucson Electric Power Company; Respondents; Notice of Complaint

May 3, 2006.

Take notice that on May 2, 2006, North Star Steel (North Star) filed a formal complaint against the Arizona Public Service Company, California Independent System Operator, Enron Power Marketing, Nevada Power Company, PacifiCorp, Powerex Corp., Public Service Company of New Mexico, and Tucson Electric Power Company (Respondents), pursuant sections 205 and 206 of the Federal Power Act and Rule 206 of the Commission's Rule of Practice and Procedure, 18 CFR 385.206. North Star petitions the Commission for an order directing the Respondents to return to North Star amounts paid to them for electric energy in excess of market clearing price between January 1, 2000 and June 20, 2001.

North Star states that copies of the complaint were served on Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 23, 2006.

Magalie R. Salas,
Secretary.

[FR Doc. E6-7181 Filed 5-10-06; 8:45 am]

BILLING CODE 6717-01-P